DEPARTMENT OF THE INTERIOR

Bureau of Land Management

[LLIDI03000.L71220000.EX0000.XXXX.LVTFD0977180; IDI-33145, IDI-35728]

Notice of Intent To Prepare an Environmental Impact Statement and Resource Management Plan Amendment for the Proposed Modification to the Thompson Creek Mine Plan of Operations, Section 404 Clean Water Act Permit Application, and Public Land Disposal, Custer and Bannock Counties, ID

AGENCY: Bureau of Land Management, Interior.

ACTION: Notice of Intent.

SUMMARY: In compliance with the National Environmental Policy Act of 1969, as amended (NEPA), and the Federal Land Policy and Management Act of 1976, as amended (FLPMA), the Bureau of Land Management (BLM), Challis Field Office, Idaho intends to prepare an Environmental Impact Statement (EIS) to analyze the potential environmental effects of the proposed approval by the BLM and U.S. Forest Service (Forest Service) of a modified mining plan of operations (MMPO) for the Thompson Creek molybdenum mine in Custer County, Idaho and the potential for disposal of BLM-administered public lands. The MMPO would allow an approximate 15-year extension of the mine life and an expansion of some facilities, requiring additional surface disturbance on approximately 350 acres of Federal lands and approximately 80 acres of private land. The EIS will include analysis of the potential environmental effects to waters of the United States that could occur under the MMPO. The Thompson Creek Mining Company (TCMC), has also proposed to exchange 900 acres of private lands owned by TCMC in Custer and Bannock counties for 5,000 acres of BLM-administered public land in the vicinity of the mine in Custer County, including the BLM-administered public land involved in the MMPO. The EIS will also evaluate a proposed amendment to the BLM Challis Field Office 1999 Resource Management Plan (RMP), to identify if the public land involved would be available for disposal pursuant to the FLPMA.

DATES: This notice initiates the public scoping process for the EIS. To be included in the Draft EIS comments must be submitted in writing using any of the methods described in the ADDRESSES section below until 30 days after publication of this notice in the Federal Register or 30 days after the last public meeting held to obtain scoping input, whichever is later. When a public meeting is held, documentation of that meeting and the list of attendees will be available to the public for 30 days so that any participant who wishes to clarify the views he or she expressed may do so. The date(s) and location(s) of any public scoping meetings will be announced at least 15 days in advance of the meetings through local media, newspapers, individual mailing, and the following BLM Web site: http://www.blm.gov/id/st/en/info/nepa/nepa/thompson_creek_mine.html. Additional opportunities for public participation will be provided upon publication of the Draft EIS.

ADDRESSES: You may submit comments regarding the proposed actions and planning criteria, and request to have your name added to the mailing list for the EIS by any of the following methods:

• E-mail: tcm_eis@jbr.com;

• Fax: (801) 942-1852, attention Brian Buck; or

• Mail: Thompson Creek Mine EIS, c/o Brian Buck, JBR Environmental Consultants, 8160 South Highland Drive, Sandy, Utah 84093.

The public may also examine documents pertinent to the proposed actions at the BLM Challis Field Office, 1151 Blue Mountain Road, Challis, Idaho 83226 during regular business hours (7:45 a.m. to 4:30 p.m.), Monday through Friday, except Federal holidays. Project information and documents will also be available on the following Web site: http://www.blm.gov/id/st/en/info/nepa/nepa/thompson_creek_mine.html.

FOR FURTHER INFORMATION CONTACT: BLM Challis Field Office, telephone (208) 879-6200; address 1151 Blue Mountain Road, Challis, Idaho 83226. Individuals who use telecommunication devices for the deaf (TDD) may call the Federal Information Relay Service (FIRS) at (800) 877-8339 between 8 a.m. and 8 p.m., Eastern Time, Monday through Friday.

SUPPLEMENTARY INFORMATION: TCMC owns and operates the Thompson Creek molybdenum mine, located 7 miles northwest of Clayton and 21 miles southwest of Challis in Custer County, Idaho. The mine has been in operation since 1981 and is permitted for about 3,400 acres of surface disturbance, of which approximately 2,300 acres are private land and approximately 1,100 acres are Federal lands administered by the BLM and the Forest Service.

TCMC has proposed to modify its mining plan of operations. The proposed MMPO would allow mining to be extended by about 15 years, ending around 2030. The MMPO would expand two waste rock storage facilities and the tailings impoundment, requiring additional surface disturbance on about 350 acres of Federal lands, and 80 acres of private land. As a separate action TCMC has proposed to exchange 900 acres of private land owned by TCMC in Custer and Bannock counties for 5,000 acres of BLM-administered land near the mine in Custer County. The BLM is currently conducting a feasibility analysis of the proposed exchange. Upon completion of the feasibility analysis, the BLM may enter into an Agreement to Initiate a Land Exchange with TCMC and subsequently publish a separate Notice of Exchange Proposal (NOEP) in the newspapers servicing Custer and Bannock counties. Public comments received in response to the NOEP would be considered in the EIS if the NOEP is issued.

In response to these proposals (1) The BLM will decide whether to approve the portion of the MMPO involving BLM-administered public land under BLM regulations at 43 CFR 3809; (2) the Forest Service will decide whether to approve the portion of the MMPO involving National Forest System lands under Forest Service regulations at 36 CFR part 228 subpart A; (3) the USACE will decide whether to issue a permit under section 404 of the CWA and USACE regulations at 33 CFR part 320 to discharge fill materials into waters of the United States; (4) the BLM will decide whether to amend the Challis RMP pursuant to Section 202 of FLPMA and BLM regulations at 43 CFR part 1600, and identify the public land involved for disposal; and (5) the BLM will decide whether to approve a land disposal action.

The authorizations by the Forest Service for National Forest System lands and USACE may be required to implement the MMPO regardless of whether the BLM approves a land disposal action. If TCMC obtains title to all of the BLM-administered land within the mine area, the BLM's approval of the MMPO would no longer be necessary because the BLM does not regulate mining operations on private land. On the other hand, if TCMC obtains title to only some of the BLM-administered land involved with the MMPO, then any continuing mining operations on BLM-administered land would require BLM authorization under 43 CFR part 3809.

The purpose and need of the proposed actions are for (1) The BLM to respond to TCMC's proposed MMPO, which would enable TCMC to continue reasonable development of the existing mine in compliance with BLM laws and regulations (FLPMA, 43 CFR 3809); (2) the Forest Service to similarly respond to the MMPO in compliance with Forest Service laws and regulations (Organic Act of 1897; 36 CFR 228, Subpart A); (3) the USACE to respond to TCMC's application for a permit to discharge fill materials into waters of the United States, as necessary in the MMPO, in compliance with USACE laws and regulations (CWA, 33 CFR 320); (4) the BLM to consider amending the Challis RMP to allow a land disposal in compliance with Section 102 of FLPMA, and (5) the BLM to respond to TCMC's proposal for a land exchange and determine if a public land disposal would be in the public interest pursuant to FLPMA.

The No Action alternative (i.e., completion of mining and reclamation under the current mining plan of operations) and alternatives that consider the RMP amendment and various aspects of the proposed MMPO and public land disposal will be analyzed. Alternatives identified to date for the MMPO include using different locations for waste rock storage and alternative reclamation measures. Alternatives identified to date for the possible public land disposal include exchange of private land for public land; how the public and private lands would be managed if these lands were exchanged, including analysis of potential impacts of conducting the mining operations identified in the proposed MMPO under the applicable statutory and regulatory authority; and possible variations in the amount of public land and/or restrictions on the public land that might be exchanged. The planning criteria for the RMP amendment would include that lands identified for disposal would serve the national interest and that newly acquired lands or interests in lands would be managed for their highest potential or for the purposes for which they were acquired.

By this notice, the BLM is complying with the requirements in 43 CFR 1610.2(c) to notify the public of potential amendments to land use plans, predicated on the analysis in the EIS. The BLM will integrate the land use planning process with the NEPA process for the EIS. The BLM will utilize and coordinate the NEPA commenting process to satisfy the public involvement for section 106 of the National Historic Preservation Act (16 U.S.C. 470f) as provided for in 36 CFR 800.2(d)(3).

The BLM is the lead Federal agency for the NEPA analysis process and preparation of the EIS. The BLM anticipates that the Forest Service, the USACE; the U.S. Environmental Protection Agency, the Idaho Department of Environmental Quality, and the Idaho Department of will be cooperating agencies. Other cooperating agencies may be identified during the scoping process.

Native American tribal consultation will be conducted in accordance with policy, and tribal concerns will be given due consideration, including impacts on Indian trust assets. Federal, State, and local agencies, along with other stakeholders that may be interested or affected by the proposed actions subject to the EIS are invited to participate in the scoping process and, if eligible, may request or be requested by the BLM to participate as a cooperating agency.

The public is invited to submit comments and resource information as well as identify issues, concerns and alternatives to be analyzed in the EIS. Public input should be as specific as possible (i.e., clearly articulate concerns and contentions) to best assist in the NEPA process. Before including your address, phone number, e-mail address, or other personal identifying information in your comment, you should be aware that your entire comment—including your personal identifying information—may be made publicly available at any time. While you may ask us in your comment to withhold your personal identifying information from public review, we cannot guarantee that we will be able to do so.

Authority: 42 U.S.C. 4321 et seq.; 33 CFR 325.3; 43 CFR 1610.2.

David Rosenkrance,
Field Manager.

[FR Doc. 2010-19054 Filed 8-2-10; 8:45 am]

BILLING CODE 4310-GG-P